DEPARTMENT OF JUSTICE

Notice of Lodging of Consent Decree Pursuant to the Clean Water Act

On March 7, 2019, the Department of Justice lodged a proposed Amended Consent Decree (“Amended Decree”) in the United States District Court for the Eastern District of Kentucky, Covington Division in the lawsuit entitled the Commonwealth of Kentucky, Plaintiff, United States of America, Plaintiff-Intervener, Tim Guilfoile, Plaintiff-Intervener v. Sanitation District No. 1 of Northern Kentucky (“SD 1”), Defendant, Civil Action No. 2:05-CV-199 (WOB).

This Amended Decree represents a modification to the initial Consent Decree, which was entered by the Court on April 18, 2007. The proposed Amended Decree provides for extending the deadlines by which the Defendant must eliminate sanitary sewer overflows (“SSOs”) and control combined sewer overflows (“CSOs”), and adds performance standards and stipulated penalty provisions geared to expedite overflow reductions and eliminate such overflows. The District submitted to the United States and the Commonwealth a financial capability and affordability analysis. After analysis of the data, the Plaintiffs, Commonwealth of Kentucky and the United States of America, concluded that an extension of the schedule as reflected in the Amended Decree was reasonable and appropriate.

The publication of this notice opens a period for public comment on the Amended Consent Decree. Comments should be addressed to the Assistant Attorney General, Environment and Natural Resources Division, and should refer to the Commonwealth of Kentucky and the United States of America (Plaintiffs) v. Sanitation District Number 1 of Northern Kentucky, D.J. Ref. No. 90-5-1-1-08591. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Amended Consent Decree may be examined and downloaded at this Justice Department website: http://www.usdoj.gov/enrd/Consent_Decrees.html. We will provide a paper copy of the Amended Consent Decree upon written request and payment of reproduction costs. Please mail your request and payment to: Consent Decree Library, U.S. DOJ—ENRD, P.O. Box 7611, Washington, DC 20044-7611.

Please enclose a check or money order for $13.50 (25 cents per page reproduction cost) payable to the United States Treasury for the Amended Consent Decree and $19.50 for the Amended Consent Decree and Exhibits thereto.

Henry S. Friedman,
Assistant Section Chief, Environmental Enforcement Section, Environment and Natural Resources Division.

[FR Doc. 2019-04698 Filed 3-13-19; 8:45 am]

BILLING CODE 4410-15-P